ENVIRONMENTAL PROTECTION AGENCY

40 CFR Parts 52 and 81

[EPA-R06-OAR-2009-0750; FRL-9963-46-Region-6]

Approval and Promulgation of Air Quality Implementation Plans; Texas; Redesignation of the Collin County Area to Attainment the 2008 Lead Standard

AGENCY: Environmental Protection Agency (EPA).

ACTION: Proposed rule.

SUMMARY: The Environmental Protection Agency (EPA) is proposing to determine the Collin County Lead (Pb) Nonattainment Area (comprising the part of Collin County bounded to the north by latitude 33.153 North, to the east by longitude 96.822 West, to the south by latitude 33.131 North, and to the West by longitude 96.837 West, which surrounds the Exide Technologies property), hereinafter referenced to as Non-Attainment Area or NAA, as attainment for the 2008 Pb NAAQS. We are also proposing to approve two SIP revision requests made by the TCEQ in 2009 and 2012. These two requests include one made in 2009 requesting approval of the state's second 10-year maintenance plan for the 1978 Pb National Ambient Air Quality Standard (NAAQS) and one made in 2012 to approve the state's plan to demonstrate compliance with the 2008 Pb NAAQS. These two revisions represent a change in the Texas State Implementation Plan (SIP) for Pb. The details of all three proposals, and our complete analysis of the requirements for each and how the state's submission meets those requirements can be found in the accompanying direct final notice and technical support document (TSD) to this proposal. The TSD is available in the docket at http://www.regulations.gov, Docket ID No. EPA-R06-OAR-2009-0750.

DATES: Written comments should be received on or before July 31, 2017.

ADDRESSES: Submit your comments, identified by Docket ID No. EPA-R06-OAR-2009-0750, at http://www.regulations.gov or via email to todd.robert@epa.gov. For additional information on how to submit comments see the detailed instructions in the ADDRESSES section of the direct final rule located in the rules section of this Federal Register.

FOR FURTHER INFORMATION CONTACT: Robert M. Todd, (214) 665-2156, todd.robert@epa.gov.

SUPPLEMENTARY INFORMATION: In the final rules section of this Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: June 14, 2017.
Samuel Coleman,
Acting Regional Administrator, Region 6.

[FR Doc. 2017-13478 Filed 6-28-17; 8:45 am]

BILLING CODE 6560-50-P